DEPARTMENT OF HEALTH AND HUMAN SERVICES

Substance Abuse and Mental Health Services Administration

Center for Substance Abuse Treatment; Notice of Meeting

Pursuant to Public Law 92-463, notice is hereby given that the Substance Abuse and Mental Health Services Administration's (SAMHSA's) Center for Substance Abuse Treatment (CSAT) National Advisory Council will meet on July 16, 2015, from 3:00 p.m.-4:00 p.m. (EDT). The meeting will be closed to the public.

The meeting will include discussion and evaluation of grant applications reviewed by Initial Review Groups, and involve an examination of confidential financial and business information as well as personal information concerning the applicants. Therefore, the meeting will be closed to the public, as determined by the SAMHSA Administrator, in accordance with Title 5 U.S.C. 552b(c)(4) and (6) and (c)(9)(B) and 5 U.S.C. App. 2, Section 10(d).

The meeting will be held virtually. Meeting information and a roster of Council members may be obtained either by accessing the SAMHSA Council Web site at: http://www.samhsa.gov/about-us/advisory-councils/csat-national-advisory-council or by contacting LCDR Holly Berilla.

Council Name: SAMHSA's Center for Substance Abuse Treatment; National Advisory Council.

Date/Time/Type: July 16, 2015, 3:00 p.m.-4:00 p.m. EDT, Closed.

Place: Virtual—Teleconference.

Contact: LCDR Holly Berilla, Designated Federal Official, CSAT National Advisory Council, 1 Choke Cherry Road, Rockville, Maryland 20857 (mail), Telephone: (240) 276-1252, Fax: (240) 276-2252, Email: holly.berilla@samhsa.hhs.gov.

Summer King,
Statistician, SAMHSA.

[FR Doc. 2015-16548 Filed 7-6-15; 8:45 am]

BILLING CODE 4162-20-P